DEPARTMENT OF THE INTERIOR

Fish and Wildlife Service

[FWS-R8-ES-2019-N035; FXES11130800000-178-FF08E00000]

Endangered and Threatened Species; Receipt of Recovery Permit Applications

AGENCY: Fish and Wildlife Service, Interior.

ACTION: Notice of receipt of permit applications; request for comments.

SUMMARY: We, the U.S. Fish and Wildlife Service, have received applications for permits to conduct activities intended to enhance the propagation or survival of endangered or threatened species under the Endangered Species Act. We invite the public and local, State, Tribal, and Federal agencies to comment on these applications. Before issuing any of the requested permits, we will take into consideration any information that we receive during the public comment period.

DATES: We must receive your written comments on or before May 20, 2019.

ADDRESSES: Document availability and comment submission: Submit requests for copies of the applications and related documents and submit any comments by one of the following methods. All requests and comments should specify the applicant name(s) and application number(s) (e.g., TEXXXXXX).

• Email: permitsr8es@fws.gov.

• U.S. Mail: Daniel Marquez, Endangered Species Program Manager, U.S. Fish and Wildlife Service, Region 8, 2800 Cottage Way, Room W-2606, Sacramento, CA 95825.

FOR FURTHER INFORMATION CONTACT: Daniel Marquez, via phone at 760-431-9440, via email at permitsr8es@fws.gov, or via the Federal Relay Service at 1-800-877-8339 for TTY assistance.

SUPPLEMENTARY INFORMATION: We, the U.S. Fish and Wildlife Service, invite the public to comment on applications for permits under section 10(a)(1)(A) of the Endangered Species Act, as amended (ESA; 16 U.S.C. 1531 et seq.). The requested permits would allow the applicants to conduct activities intended to promote recovery of species that are listed as endangered or threatened under the ESA.

Background

With some exceptions, the ESA prohibits activities that constitute take of listed species unless a Federal permit is issued that allows such activity. The ESA's definition of “take” includes such activities as pursuing, harassing, trapping, capturing, or collecting in addition to hunting, shooting, harming, wounding, or killing.

A recovery permit issued by us under section 10(a)(1)(A) of the ESA authorizes the permittee to conduct activities with endangered or threatened species for scientific purposes that promote recovery or for enhancement of propagation or survival of the species. These activities often include such prohibited actions as capture and collection. Our regulations implementing section 10(a)(1)(A) for these permits are found in the Code of Federal Regulations (CFR) at 50 CFR 17.22 for endangered wildlife species, 50 CFR 17.32 for threatened wildlife species, 50 CFR 17.62 for endangered plant species, and 50 CFR 17.72 for threatened plant species.

Permit Applications Available for Review and Comment

Proposed activities in the following permit requests are for the recovery and enhancement of propagation or survival of the species in the wild. The ESA requires that we invite public comment before issuing these permits. Accordingly, we invite local, State, Tribal, and Federal agencies and the public to submit written data, views, or arguments with respect to these applications. The comments and recommendations that will be most useful and likely to influence agency decisions are those supported by quantitative information or studies.

Application No. | Applicant, city, state | Species | Location | Activity | Type of take | Permit action
TE-62868B | The Klamath Tribes, Chiloquin, Oregon | • Lost River sucker (Deltistes luxatus) • Shortnose sucker (Chasmistes brevirostris). | OR | Capture, mark, collect tissue samples, captive rear, sacrifice, and release | Collect, rear, and release | Renew and amend.
TE-032713 | California Department of Transportation, Fresno, California | • Tipton kangaroo rat (Dipodomys nitratoides nitratoides), • Giant kangaroo rat (Dipodomys ingens), • Conservancy fairy shrimp (Branchinecta conservatio), | CA | Survey | Capture, handle, release, and collect vouchers | Renew.
|  | • Longhorn fairy shrimp (Branchinecta longiantenna), • San Diego fairy shrimp (Branchinecta sandiegonensis), • Riverside fairy shrimp (Streptocephalus woottoni),
|  | • Vernal pool tadpole shrimp (Lepidurus packardi), • California tiger salamander (Santa Barbara County and Sonoma County Distinct Population Segments (DPSs)) (Ambystoma californiense).
TE-218630 | Irena Mendez, Santa Monica, California | • El Segundo blue butterfly (Euphilotes battoides allyni) | CA | Survey | Survey | Renew.
TE-190300 | Debra DeLaTorre, Phelan, California | • Stephens' kangaroo rat (Dipodomys stephensi) | CA | Survey | Capture, handle, and release | Renew.
TE-788133 | Vincent Scheidt, San Diego, California | • Quino checkerspot butterfly (Euphydryas editha quino) | CA | Survey | Survey | Renew.
TE-28560D | Southern Nevada Water Authority, Las Vegas, Nevada | • Moapa dace (Moapa coriacea) | NV | Enhance habitat, control invasive species, mark and recapture, survey | Survey, capture, handle, and release | New.
TE-844030 | Eda Eggeman, Redding, California | • Conservancy fairy shrimp (Branchinecta conservatio), • Vernal pool tadpole shrimp (Lepidurus packardi). | CA | Survey | Survey, capture, handle, release, and collect vouchers | Renew.
TE-63422B | Spring Mountains National Recreation Area, U.S. Forest Service, Las Vegas, Nevada | • Mount Charleston blue butterfly (Icaricia (Plebejus) shasta charlestonensis) | NV | Survey | Survey | Renew.
TE-88748B | Erika Walther, Oakland, California | • Salt marsh harvest mouse (Reithrodontomys raviventris) | CA | Survey | Survey, capture, handle, collect hair for genetic analysis, and release | Amend.
TE-778195 | Helix Environmental Planning, La Mesa, California | • California tiger salamander (Santa Barbara County and Sonoma County Distinct Population Segments (DPSs)) (Ambystoma californiense) | CA | Survey | Capture, handle, and release | Amend.
TE-031848 | Ryan Henry, Oakland, California | • Conservancy fairy shrimp (Branchinecta conservatio), • Longhorn fairy shrimp (Branchinecta longiantenna), • San Diego fairy shrimp (Branchinecta sandiegonensis), | CA | Survey | Survey, capture, handle, release, and collect vouchers | Renew.
|  | • Riverside fairy shrimp (Streptocephalus woottoni), • Vernal pool tadpole shrimp (Lepidurus packardi).
TE-42850A | California Department of Water Resources, Fresno, California | • California tiger salamander (Santa Barbara County and Sonoma County Distinct Population Segments (DPSs)) (Ambystoma californiense) | CA | Survey | Capture, handle, and release | Renew.
TE-28754D | Jill Grant, El Granada, California | • California tiger salamander (Santa Barbara County and Sonoma County Distinct Population Segments (DPSs)) (Ambystoma californiense), • San Francisco garter snake (Thamnophis sirtalis tetrataenia), • Mission blue butterfly (Icaricia icarioides missionensis). | CA | Survey | Capture, handle, and release | New.
TE-039466 | U.S. Geological Survey, Idaho Cooperative Fish and Wildlife Research Unit, Moscow, Idaho | • California clapper rail (Rallus longirostris obsoletus), • Light-footed clapper rail (light-footed Ridgway's r.) (Rallus longirostris levipes) (R. obsoletus l.), • Yuma clapper rail (Yuma Ridgway's r.) (Rallus longirostris yumanensis) (R. obsoletus y.). | CA, NV, AZ | Survey, perform educational workshops, collect feathers, conduct genetic analysis, band, attach satellite transmitters | Capture, handle, collect feathers, band, release, and track | Renew and Amend.
TE-060175 | Teresa Gonzales, San Jacinto, California | • Southwestern willow flycatcher (Empidonax traillii extimus) | CA | Survey | Survey | Renew.
TE-31349D | Briggs Lab, Santa Barbara, California | • Arroyo toad (arroyo southwestern) (Anaxyrus californicus), • Sierra Nevada yellow-legged frog (Rana sierrae), • Mountain yellow-legged frog ((northern California DPS) (Rana muscosa)). | CA | Capture, swab, toe clip, and release | Capture, swab, toe clip, and release | New.
TE-31350D | Timothy Salamunovich, Arcata, California | • Tidewater goby (Eucyclogobius newberryi) | CA | Survey | Capture, handle, and release | New.
TE-118641 | Jodi McGraw, Watsonville, California | • Zayante band-winged grasshopper (Trimerotropis infantilis), • Mount Hermon June beetle (Polyphylla barbata). | CA | Survey, restore habitat | Survey, capture, handle, relocate, release | Renew and Amend.
TE-027422 | Brian Pittman, Petaluma, California | • Conservancy fairy shrimp (Branchinecta conservatio), • Longhorn fairy shrimp (Branchinecta longiantenna), • San Diego fairy shrimp (Branchinecta sandiegonensis), | CA | Survey | Capture, handle, release, and collect vouchers | Renew.
|  | • Riverside fairy shrimp (Streptocephalus woottoni), • Vernal pool tadpole shrimp (Lepidurus packardi), • California tiger salamander (Santa Barbara County and Sonoma County Distinct Population Segments (DPSs)) (Ambystoma californiense).
TE-110382 | Ava Edens, Mission Viejo, California | • Conservancy fairy shrimp (Branchinecta conservatio), • Longhorn fairy shrimp (Branchinecta longiantenna), | CA | Survey | Capture, handle, release, and collect vouchers | Renew.
|  | • San Diego fairy shrimp (Branchinecta sandiegonensis), • Riverside fairy shrimp (Streptocephalus woottoni), • Vernal pool tadpole shrimp (Lepidurus packardi).
TE-101151 | Eric (Rick) Bailey, San Marcos, California | • San Diego fairy shrimp (Branchinecta sandiegonensis), • Riverside fairy shrimp (Streptocephalus woottoni), • Vernal pool tadpole shrimp (Lepidurus packardi). | CA | Survey | Capture, handle, release, and collect vouchers | Renew.
TE-32232D | Sara Snyder, Grover Beach, California | • Conservancy fairy shrimp (Branchinecta conservatio), • Longhorn fairy shrimp (Branchinecta longiantenna), | CA | Survey | Capture, handle, release, and collect vouchers | New.
|  | • San Diego fairy shrimp (Branchinecta sandiegonensis), • Riverside fairy shrimp (Streptocephalus woottoni), • Vernal pool tadpole shrimp (Lepidurus packardi).
TE-67390A | Benjamin Smith, Mission Viejo, California | • Southwestern willow flycatcher (Empidonax traillii extimus) | CA, NV | Survey | Survey | Renew.
TE-43937B | Robert Sloan, San Luis Obispo, California | • Morro shoulderband (=Banded dune) snail (Helminthoglypta walkeriana) | CA | Survey and enhance habitat | Survey, capture, handle, relocate, and release | Renew.
TE-09389A | Michelle Giolli, El Cerrito, California | • Conservancy fairy shrimp (Branchinecta conservatio), • Longhorn fairy shrimp (Branchinecta longiantenna), | CA | Survey | Capture, handle, release, and collect vouchers | Renew.
|  | • San Diego fairy shrimp (Branchinecta sandiegonensis), • Riverside fairy shrimp (Streptocephalus woottoni), • Vernal pool tadpole shrimp (Lepidurus packardi).
TE-32290D | Michael Scaffidi, Davis, California | • Conservancy fairy shrimp (Branchinecta conservatio), • Longhorn fairy shrimp (Branchinecta longiantenna), | CA | Survey | Capture, handle, release, and collect vouchers | New.
|  | • San Diego fairy shrimp (Branchinecta sandiegonensis), • Riverside fairy shrimp (Streptocephalus woottoni), • Vernal pool tadpole shrimp (Lepidurus packardi).
TE-062125 | U.S. Bureau of Land Management, El Dorado Hills, California | • Stebbins' morning-glory (Calystegia stebbinsii), • Pine Hill ceanothus (Ceanothus roderickii), • Ione (incl. Irish Hill) buckwheat (Eriogonum apricum (incl. var. prostratum)), | CA | Collect plants and plant parts | Remove/reduce to possession from lands under Federal jurisdiction | Renew.
|  | • Pine Hill flannelbush (Fremontodendron californicum ssp. decumbens), • El Dorado bedstraw (Galium californicum ssp. sierrae).
TE-827493 | Brian Leatherman, Yorba Linda, California | • Southwestern willow flycatcher (Empidonax traillii extimus), • Least Bell's vireo (Vireo belli pusillus) | CA, NV | Survey and nest monitor | Survey and nest monitor | Renew.
TE-053085 | U.S. Bureau of Reclamation, Boulder City, Nevada | • Yuma clapper rail (Yuma Ridgway's r.) (Rallus longirostris yumanensis) (R. obsoletus y.), • Southwestern willow flycatcher (Empidonax traillii extimus), | CA, NV, AZ | Survey, monitor, mark, collect, transport, and mark | Survey, monitor, collect, transport, mark, PIT tag, and electrofish | Renew.
|  | • Bonytail chub (Gila elegans), • Razorback sucker (Xyrauchen texanus).

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Next Steps

If we decide to issue permits to any of the applicants listed in this notice, we will publish a notice in the Federal Register.

Authority

We publish this notice under section 10(c) of the Endangered Species Act of 1973, as amended (16 U.S.C. 1531 et seq.).

Angela Picco,
Acting Chief of Ecological Services, Pacific Southwest Region, Sacramento, California.

[FR Doc. 2019-07928 Filed 4-18-19; 8:45 am]

BILLING CODE 4333-15-P